DEPARTMENT OF JUSTICE

Notice of Modification to Consent Decree Pursuant to Comprehensive Environmental Response, Compensation and Liability Act

Notice is hereby given that on January 16, 2009, a proposed modification of the consent decree in United States v. General Electric Company, Civil Action No. 05-cv-1270 (N.D.N.Y.), was executed between the United States and General Electric Company.

The proposed consent decree modification will amend the consent decree entered in this matter on November 2, 2006, with respect to certain claims of the United States under the Comprehensive Environmental Response, Compensation and Liability Act, 42 U.S.C. 9601, et seq., relating to the release of polychlorinated biphenyls (PCBs) into the Hudson River by General Electric Company (GE). In pertinent part, the proposed modification: (1) Adds provisions to the original consent decree regarding the reimbursement by GE of certain costs of the U.S. Environmental Protection Agency (EPA) relating to (a) the design and construction of a water supply line from Troy, New York, to provide the Towns of Waterford and Halfmoon, New York (hereinafter, the “Towns”), with an alternate water supply during the Hudson River dredging program specified in the original consent decree, and (b) the design, construction, installation and maintenance of a granulated activated carbon (GAC) system for the water supply wells of the Village of Stillwater, New York during the first phase of the Hudson River dredging program; (2) adds provisions regarding GE's reimbursement of certain costs that might be incurred by EPA for the provision of water to Waterford and Halfmoon during the second phase of the Hudson River dredging program; (3) modifies certain of the water column monitoring requirements set forth in the original consent decree's statement of work; and, (4) makes certain minor administrative changes to the original consent decree.

The following is a summary of the modification's provisions relating to the provision or treatment of drinking water. Under the modification, GE agrees to pay to the United States the lesser of $7,000,000 or all costs incurred or to be incurred by EPA relating to the design and construction of the water line and the Stillwater GAC system. In addition, if GE agrees to perform the second phase of the dredging program as provided in the original consent decree, GE will reimburse EPA for 50% of any costs paid by EPA during the dredging for water usage fees assessed upon the Towns, up to $750,000.

Prior to filing the modification with the Court, the Department of Justice will receive for a period of thirty (30) days from the date of this publication comments relating to the proposed modification to the consent decree. Comments should be addressed to the Assistant Attorney General, Environment and Natural Resources Division, and either e-mailed to pubcomment-ees.enrd@usdoj.gov or mailed to P.O. Box 7611, U.S. Department of Justice, Washington, DC 20044-7611, and should refer to United States v. General Electric Company, Civil Action No. 05-cv-1270, D.J. Ref. 90-11-2-529. During the public comment period, the proposed modification to the consent decree, may also be examined on the following Department of Justice Web site, to http://www.usdoj.gov/enrd/Consent_Decrees.html. A copy of the proposed modification to the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.00 (25 cents per page reproduction cost) payable to the U.S. Treasury or, if by e-mail or fax, forward a check in that amount to the Consent Decree Library at the stated address.

Maureen Katz,
Assistant Chief, Environmental Enforcement Section, Environment and Natural Resources Division.

[FR Doc. E9-1467 Filed 1-23-09; 8:45 am]

BILLING CODE 4410-15-P